DEPARTMENT OF DEFENSE

Office of the Secretary

Termination of Federal Advisory Committee

AGENCY: DoD.

ACTION: Notice.

SUMMARY: Under the provisions of the Federal Advisory Committee Act of 1972, (5 U.S.C. appendix, as amended), the government in the sunshine Act of 1976 (5 U.S.C. 552b, as amended),k and 41 CFR 102-3.55, the Department of Defense gives notice that it will terminate the charter for the U.S. Southern Command Advisory Group on September 30, 2007.

The committee's charter was filed April 2, 2007; however, changing priorities within the U.S. Southern Command have negated the need for this advisory committee. The Department of Defense did not expend any funds on this committee nor did it approve the appointment of any committee members.

FOR FURTHER INFORMATION CONTACT: Contact Jim Freeman, DoD Committee Management Office, 703-601-2554, extension 128.

L. M. Bynum,
Alternate OSD Federal Register Liaison Officer, Department of Defense.

[FR Doc. 07-4500 Filed 9-12-07; 8:45 am]

BILLING CODE 5001-06-M